DEPARTMENT OF HOMELAND SECURITY

Notice Designating Rutgers, the State University of New Jersey, as Data Sciences Lead Institution for the DHS Center of Excellence for Command, Control and Interoperability

AGENCY: Department of Homeland Security.

ACTION: Notice.

SUMMARY: The Department of Homeland Security has designated Rutgers, the State University of New Jersey (Rutgers) as a DHS Center of Excellence for Command, Control and Interoperability

FOR FURTHER INFORMATION CONTACT: Joseph Kielman, Science and Technology Directorate, Department of Homeland Security, Washington, DC 20528; telephone 202-254-5787; e-mail joseph.kielman@dhs.gov.

SUPPLEMENTARY INFORMATION:

Background

Section 308 of the Homeland Security Act of 2002, Public Law 107-296, (the “Homeland Security Act”), as amended by the Consolidated Appropriations Resolution 2003, Public Law 108-7, and as codified in Title 6 of the United States Code Chapter I Subchapter III Section 188(b)(2) [6 U.S.C. 188(b)(2)], directs the Department of Homeland Security (“Department”) to sponsor extramural research, development, demonstration, testing and evaluation programs relating to homeland security. As part of this program, the Department has established a coordinated system of university-based centers for homeland security (the “Centers”).

The Centers are envisioned to be an integral component of the Department's capability to anticipate, prevent, respond to, and recover from terrorist attacks and natural disasters. The Centers will leverage multidisciplinary capabilities and fill gaps in current knowledge.

6 U.S.C. 188(b)(2)(B) lists fourteen areas of substantive expertise that, if demonstrated, might qualify universities for designation as university-based centers. The listed areas of expertise include: (1) The training of first responders; (2) responding to incidents involving weapons of mass destruction and biological warfare; (3) emergency and diagnostic medical services; (4) chemical, biological, radiological and nuclear countermeasures or detection; (5) animal and plant health and diagnostics; (6) food safety; (7) water and wastewater operations; (8) port and waterway security; (9) multi-modal transportation; (10) information security and information engineering; (11) engineering; (12) educational outreach and technical assistance; (13) border and transportation security; and (14) the public policy implications and public dissemination of homeland security relevant research and development.

However, this list is not exclusive. 6 U.S.C. 188(b)(2)(C) gives the Secretary discretion to except certain criteria specified in 6 U.S.C. 188(b)(2)(B) and consider additional criteria beyond those specified in 6 U.S.C. 188(b)(2)(B) in selecting universities for this program, as long as the Department issues a Federal Register notice explaining the criteria used for the designation. This Center of Excellence will address statutory criterion 6 U.S.C. 188(b)(2)(B)(10), information security and information engineering.

Evaluation

The Department of Homeland Security (DHS) chose Rutgers University and its partner institutions for the new Center of Excellence (COE) through a merit-based, competitive, and rigorous review process consistent with guidelines set forth in Section 308 of the Homeland Security Act of 2002 (Pub. L. 107-296), as amended. The DHS Science and Technology Directorate (S&T) issued a research funding opportunity announcement (FOA) soliciting applications for the establishment of a COE for the Study of Command, Control and Interoperability (CCI) issues on May 1, 2008 on http://www.grants.gov.

DHS received eight proposals in response to this announcement. External subject matter experts considered the merits of these proposals with respect to the evaluation criteria in the announcement and referred four proposals to a DHS internal review panel. DHS subject matter experts evaluated the proposals in light of DHS priorities and investments and made recommendations. A select team of S&T staff made site visits to all four applicants considered by the internal review panel. At the end of the competitive review, University Programs selected the lead institutions in accordance with Section 308 of the Homeland Security Act of 2002.

Criteria

As communicated in the funding opportunity announcement and to the reviewers, the evaluation criteria for proposals were as follows. The first six criteria (a-f) were critical elements of the proposal and were of equal significance. Proposals that did not provide satisfactory responses to all of these essential criteria were declined. The remaining criteria (g-m) also were important to meeting S&T's overall objectives. They were listed in approximate descending order of importance, and needed to be fully addressed by applicants.

a. Responsiveness: The degree to which the proposal directly responds to the research areas, topics or questions described in the funding opportunity announcement, with appropriate scientific theory, methods, and data.

b. Technical Merit and Quality: The degree to which the proposed research focus will achieve excellence (to offer results capable of commanding the respect of active researchers and of probing a frontier area well). The originality and creativity of the proposed research questions and the appropriateness and adequacy of the proposed research methods.

c. Mission-Related Significance: The degree to which the proposed research focus can yield results that overcome existing and difficult technical limitations, or that offer the scientific basis to enable major technological advances in the foreseeable future. The responsiveness of the proposal to the research needs identified in this announcement and the willingness and ability of the applicants to consult with Federal, state, local and private stakeholders to refine research questions and design to make results applicable to homeland security issues or policy.

d. Geographical distribution of all Centers of Excellence and major partners: The Centers of Excellence program's authorizing legislation states: “* * * the Under Secretary for Science and Technology, shall operate extramural research, development, demonstration, testing and evaluation programs so as to ensure that colleges, universities, private research institutes and companies from as many regions of the United States as practicable participate.” Geographical location of the lead institution and its major partners will be a factor in evaluating proposals submitted in response to this COE.

e. Qualifications of Investigators: The qualifications of the principal investigator(s) and other key personnel, including training, demonstrated knowledge of pertinent literature, experience, and publication records, and the extent to which key personnel will make a significant time commitment to the project.

f. Productive Use of Federal Resources: The ability to extend the productivity of Federal funds and other resources through matching funds, leveraging of other new fund sources, in-kind provision of faculty, student support, dedicated office or laboratory space.

g. Facilities and Equipment: The availability and/or adequacy of the facilities and equipment proposed for the project.

h. Management: The ability of the lead institution to manage a complex Center of Excellence in terms of achieving research results when due, managing large and complex budgets and communicating research outcomes, and the adequacy of the proposed management plan to ensure quality research and education programs from researchers at both primary and partner institutions.

i. Minority Serving Institution Partnerships: The demonstrated ability and commitment to establish meaningful partnerships with MSIs to develop a quality MSI research and training program, and the quality of the proposed program.

j. Education: The adequacy of education plans and supporting materials demonstrating the proposed COE's ability to establish an enduring and comprehensive program of study in disciplines related to the specific research areas cited in this announcement.

k. Knowledge of Current Research: Evidence that the applicant is familiar with the research and resources of existing DHS COEs, other DHS S&T, federal agency or National Laboratory research and development programs, and other relevant university programs and can demonstrate its ability to take advantage of these resources.

l. Results Transition: The effectiveness and soundness of a strategy to transition research results to end users and mechanisms to accomplish this transition, and demonstration of a clear and effective plan for transitioning research results for each project or research area ultimately to homeland security mission agencies.

m. Budget: Although budget information does not reflect on the application's scientific merit, the evaluation will include the appropriateness and/or adequacy of the proposed budget and its implications for the potential success of the proposed research. Input on requested equipment is of particular interest.

Summary

This COE will conduct fundamental research into the technological issues, challenges, and policy issues related to 1. Dynamic, on-demand data processing and visualization; 2. hypothesis-driven data analysis; 3. visualization of structured, unstructured, and streaming data; 4. mathematics of discrete and visual analytics; 5. scalable information filtering and dissemination; 6. visualization and simulation of information; 7. mobile and light-weight information analytics and sharing. This COE will create the scientific basis and enduring technologies needed to analyze massive amounts of information from multiple sources to more reliably detect threats to the security of the nation and its infrastructures, and to the health and welfare of its populace. These new technologies will also improve the dissemination of both information and related technologies.

Based on information collected in the evaluation process, DHS designated Rutgers, the State University of New Jersey, as Data Sciences Lead Institution for the Command, Control and Interoperability Center of Excellence, in partnership with Purdue University (the Visualization Sciences and Education Lead Institution) and other affiliates. This team of institutions is uniquely well qualified and located to address data analysis, visualization, cyber security and other related issues. They will become an intrinsic part of the DHS science and technology portfolio, working closely with DHS and other Federal, State, and local governments to solve complex and critical data and visualization science challenges.

Matthew Clark,
Director, University Programs, Science and Technology Directorate, Department of Homeland Security.

[FR Doc. E9-6451 Filed 3-23-09; 8:45 am]

BILLING CODE 9110-9F-P